DEPARTMENT OF AGRICULTURE

Forest Service

Toolbox Fire Recovery Project, Fremont National Forest, Lake County, OR

AGENCY: Forest Service, USDA.

ACTION: Notice of intent to prepare an environmental impact statement.

SUMMARY: The USDA, Forest Service will prepare an environmental impact statement (EIS) on a proposal to assist the recovery of areas burned in 2002 by the Toolbox Complex Fires (includes Toolbox Fire, Silver Fire and small portion of Winter Fire). This will include proposals to salvage burned timber, implement re-forestation and implement projects to alleviate the potential for future damage to riparian and aquatic resources as a result of the Toolbox Complex Fires. The 48,000 acre project area is located on the Silver Lake Ranger District and is centered approximately 13 miles south of Silver Lake, Oregon, within the Silver Creek, Silver Lake and Summer Lake Watersheds.

DATES: Comments concerning the scope of the analysis must be received by December 2, 2002.

ADDRESSES: Send written comments to Carolyn Wisdom, District Ranger, Silver Lake Ranger District, PO Box 129, Silver Lake, OR 97638.

FOR FURTHER INFORMATION CONTACT: Rick Elston, Toolbox Fire Recovery Project Interdisciplinary Team Leader, Silver Lake Ranger District, Phone: (541) 576-7569. E-mail relston@fs.fed.us.

SUPPLEMENTARY INFORMATION: In July 2002 the Toolbox Complex Fires burned approximately 85,000 acres, of which 49,500 occur on the Fremont National Forest. The remainder of the fire includes approximately 8,000 acres of Bureau of Land Management Administered lands and 27,500 acres of private land. The 48,000 acre decision area for the Toolbox Fire Recovery Projects includes those portions of the Toolbox Complex Fires that occurred within the Silver Creek, Silver Lake and Summer Lake Watersheds on National Forest System lands.

Purpose and Need for Action

The purpose and need for action in the project planning area is to create conditions that would facilitate our efforts to:

—Recover habitat lost and soil damaged as a result of intense fire and reduce the likelihood of future loss or damage from reburn;

—Restore damaged riparian areas resulting from the Toolbox Complex Fire;

—Protect remaining live stands from insect infestations associated with fire-killed trees;

—Develop a long term sustainable forest through re-forestation and fuels reduction; and

—Salvage burned timber, while it retains some merchantable value.

Proposed Action

The proposed project would include the following activities:

—Reforestation of areas that sustained high tree mortality including existing plantations that were affected by the fire;

—Re-vegetation of burned riparian areas;

—Reconstruction of roads open to the public and repair of roads closed to the public but still required for administrative use; decommissioning of degraded roads;

—Riparian Restoration including adding large wood to deficient stream channels; and

—Salvage harvest of approximately 21,500 acres in the Silver Creek, Silver Lake and Summer Lake Watersheds and removal of hazardous trees along open roads and at recreational facilities.

Most of the proposed timber salvage units would be harvested using ground-based logging systems. Access for salvage would require reconstruction of about 9 miles of existing roads, primarily by adding surfacing, and construction of approximately 12 miles of new temporary roads and 14 miles of temporary roads located on old road locations. The temporary roads would be closed and obliterated after completion of project activities. Approximately 10 to 15% of the area to be salvaged would be harvested using helicopter based logging systems, including areas salvaged within Riparian Habitat Conservation Areas (RHCAs). All activities within RHCAs would be in accordance with Fremont National Forest Land and Resource Management Plan (LRMP) Standards and Guidelines, as amended by the Inland Native Fish Strategy (INFISH). Other connected actions in association with salvage include water barring and erosion control measures such as scattering of slash on skid trails and treatment of slash.

Planting of tree seedlings following site preparation would occur on approximately 28,500 acres, including areas that are salvage harvested and existing plantations or young stands in which fire damage occurred. Most or all seedlings would be ponderosa pine. Reduction of fuels, including those created by the fire, by salvage activity and by site preparation would occur throughout the project area. A variety of fuel treatment methods would be used, including removing marketable timber through salvage harvest, burning in place, piling and burning, yarding tops to landings to be burned, or lopping and scattering to speed decay. In order to meet desired fuels conditions some areas may be “pretreated” (by thinning very small diameter trees) and prescribed burned. In some instances this may require a Forest Plan amendment.

Additional proposed activities include:

—Approximately 35 miles of road decommissioning to promote watershed recovery;

—Approximately 880 acres of aspen stand protection;

—Placement of large woody debris or other in-stream structures to meet Riparian Management Objectives in approximately 8 miles of Silver Creek and 6 miles of West Fork Silver Creek;

—Approximately 10 acres of riparian area deciduous plantings;

—Approximately 1,300 acres of contour falling (using dead trees) on steep slopes to protect water quality;

—Culvert replacement where Forest Road 27 crosses West Fork Silver Creek to improve fish passage;

—Approximately 2,500 acres of plantation thinning; and

—Re-routing sections of the Fremont National Recreation Trail if necessitated by salvage activity.

All proposed activities are responsive to the stated purpose and need for this project.

Possible Alternatives

A full range of alternatives will be considered, including a “no-action” alternative in which none of the activities proposed above would be implemented. Based on the issues gathered through scoping, the action alternatives would differ in (1) The silvicultural and post-harvest treatments prescribed (2) the amount and location of harvest (3) the amount and location of fuels reduction activity. Tentative alternatives to the proposed action include an alternative that does not require the construction of additional temporary or permanent roads, other than temporary re-opening of existing roads, and that does not consider salvage removal from RHCAs. Another alternative would emphasize removal (or other fuels treatment options) of dead timber in the size classes most likely to reburn. Currently available science on snag and coarse woody debris dependent species habitat will be a factor in alternative development and could result in a proposal of a site-specific Forest Plan amendment to update standards and guidelines for these species. Consideration of various regeneration strategies including planting at relatively low stocking levels could also be a factor that differentiates alternatives.

Scoping Process

Public participation will be sought at several points during the analysis, including listing of this project in the Fall 2002 and subsequent issues of the Fremont-Winema National Forest's Schedule of Proposed Activities; letters to agencies, organizations, and individuals who have previously indicated their interest in such activities; and a legal notice in the Klamath Herald and News. Public meetings may be scheduled during the fall/winter of 2002-2003. The scoping process will include: Identifying potential issues, identifying major issues to be analyzed in depth, eliminating non-significant issues or those previously covered by a relevant environmental analysis, considering additional alternatives based on themes which will be derived from issues recognized during scoping activities, and identifying potential environmental effects of this proposed action and alternatives (i.e., direct, indirect and cumulative effects and connected actions).

Preliminary Issues

Preliminary issues include: Snag and downed wood habitat; big game thermal cover; disturbance of cultural resources; potential noxious weed expansion; effects of proposed activities on soils exposed by the fire; effects of proposed activities on the recovery of water quality and resident fisheries resource; ability of proposed activities to contribute to restoration of historic vegetation composition, structures, and patterns; potential loss of commercial timber value; and economic viability of timber salvage.

Public comments about this proposal are requested in order to assist in properly scoping issues, determining how to best manage the resources, and fully analyzing environmental effects. Comments received to this notice, including names and addresses of those who comment, will be considered part of the public record on this proposed action and will be available for public inspection. Comments submitted anonymously will be accepted and considered; however, those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

Early Notice of Importance of Public Participation in Subsequent Environmental Review

The comment period on the draft environmental impact statement will be 45 days from the date the Environmental Protection Agency publishes the notice of availability in the Federal Register. The draft EIS is expected in June 2003 and the final EIS is expected in October 2003.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final EIS.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The Forest Service is the lead agency. The Responsible Official is the Forest Supervisor, Fremont National Forest, 1301 South “G” Street, Lakeview, Oregon 97630-9701. The Responsible Official will decide which, if any, of the proposed projects will be implemented. The Responsible Official may also decide on site-specific Forest Plan amendments regarding standards and guidelines for snag and coarse woody debris, as well as big game habitat, if warranted by the analysis of those components in light of recent science.

The Responsible Official will document the Toolbox Fire Recovery Project decision and reasons for the decision in the Record of Decision. That decision will be subject to Forest Service Appeal Regulations (36 CFR part 215).

Dated: October 21, 2002.
Charles R. Graham,
Forest Supervisor.

[FR Doc. 02-27786 Filed 10-31-02; 8:45 am]

BILLING CODE 3410-11-M